DEPARTMENT OF COMMERCE

National Oceanic and Atmospheric Administration

[I.D. 081502D]

Pacific Fishery Management Council; Public Meeting

AGENCY: National Marine Fisheries Service (NMFS), National Oceanic and Atmospheric Administration (NOAA), Commerce.

ACTION: Notice of public meeting.

SUMMARY: The Pacific Fishery Management Council's (Council) Coastal Pelagic Species Advisory Subpanel (CPSAS) will hold a conference call, which is open to the public.

DATES: The CPSAS will convene via conference call Friday, September 6, 2002, from 1 p.m. until business for the day is completed.

ADDRESSES: See SUPPLEMENTARY INFORMATION for a list of public listening station locations.

Council address: Pacific Fishery Management Council, 7700 NE Ambassador Place, Suite 200, Portland, OR 97220-1384.

FOR FURTHER INFORMATION CONTACT: Mr. Dan Waldeck, Pacific Fishery Management Council; telephone: (503) 820-2280.

SUPPLEMENTARY INFORMATION: Public listening stations will be available at the following locations:

1. National Marine Fisheries Service, 501 W Ocean Blvd., Long Beach, CA 90802, (562) 980-4000, Contact: Jim Morgan;

2. California Department of Fish and Game, 1933 Cliff Drive, Suite 9, Santa Barbara, CA 93109, (805) 568-1231, Contact: Marija Vojkovich;

3. California Department of Fish and Game, 20 Lower Ragsdale Drive, Suite 100, Monterey, CA 93940, (831) 649-2870, Contact: Travis Tanaka; and

4. Pacific Fishery Management Council, 7700 NE Ambassador Place, Suite 200, Portland, OR 97220-1384, (503) 820-2280, Contact: Dan Waldeck.

The purpose of the work session is to prepare CPSAS comments to the Council regarding two matters, (1) potential collateral impacts on CPS fisheries from proposed regulations for the 2003 West Coast groundfish fishery, and (2) recommendations from the Council’s Ad Hoc Marine Reserves Policy Committee regarding marine reserves in California state waters. Both of these matters are due for final Council consideration at the September 2002 Council meeting. This conference call is intended to provide the CPSAS opportunity to consider these matters and develop recommendations for the Council.

Although nonemergency issues not contained in the CPSAS meeting agenda may come before the CPSAS for discussion, those issues may not be the subject of formal CPSAS action during this meeting. CPSAS action will be restricted to those issues specifically listed in this document and any issues arising after publication of this document that require emergency action under section 305(c) of the Magnuson-Stevens Fishery Conservation and Management Act, provided the public has been notified of the CPSAS's intent to take final action to address the emergency.

Special Accommodations

The meeting is physically accessible to people with disabilities. Requests for sign language interpretation or other auxiliary aids should be directed to Ms. Carolyn Porter at (503) 820-2280 at least 5 days prior to the meeting date.

Dated: August 16, 2002.
Richard W. Surdi,
Acting Director, Office of Sustainable Fisheries, National Marine Fisheries Service.

[FR Doc. 02-21311 Filed 8-20-02; 8:45 am]

BILLING CODE 3510-22-S